DEPARTMENT OF TRANSPORTATION

Federal Aviation Administration

Notice of Intent To Rule on Application To Impose and Use the Revenue From a Passenger Facility Charge (PFC) at Pellston Regional Airport of Emmet County, Pellston, Michigan

AGENCY: Federal Aviation Administration (FAA), DOT.

ACTION: Notice of intent to rule on application.

SUMMARY: The FAA proposes to rule and invites public comment on the application to impose and use the revenue from a PFC at Pellston Regional Airport of Emmet County under the provisions of the Aviation Safety and Capacity Expansion Act of 1990 (Title IX of the Omnibus Budget Reconciliation Act of 1990) (Public Law 101-508) and Part 158 of the Federal Aviation Regulations (14 CFR Part 158).

DATES: Comments must be received on or before July 18, 2001.

ADDRESSES: Comments on this application may be mailed or delivered in triplicate to the FAA at the following address: Federal Aviation Administration, Detroit Airports District Office, Willow Run Airport, East, 8820 Beck Road, Belleville, Michigan 48111. The application may be reviewed in person at this location.

In addition, one copy of any comments submitted to the FAA must be mailed or delivered to Kelley Atkins, Airport Manager of the Pellston Regional Airport of Emmet County at the following address: Pellston Regional Airport of Emmet County, US 31, Pellston, Michigan 49769.

Air carriers and foreign air carriers may submit copies of written comments previously provided to the Pellston Regional Airport of Emmet County under section 158.23 of Part 158.

FOR FURTHER INFORMATION CONTACT: Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Pellston Regional Airport of Emmet County under the provisions of the Airport and Airway Improvement Act of 1982, as amended, and Part 158 of the Federal Aviation Regulations (14 CFR Part 158).

On May 7, 2001, the FAA determined that the application to impose and use the revenue from a PFC submitted by Pelleston Regional Airport of Emmet County was substantially complete within the requirements of section 158.25 of part 158. The FAA will approve or disapprove the application, in whole or in part, not later than August 8, 2001.

The following is a brief overview of the application.

PFC application number: 01-09-C-00-PLN.

Level of the proposed PFC: $3.00.

Proposed charge effective date: June 1, 2001.

Proposed charge expiration date: June 30, 2011.

Total estimated PFC revenue: $790,634.00.

Brief Description of Proposed Project

Impose and Use: Rehabilitate runway 5/23 lighting, design for terminal expansion, PFC application, wildlife study, terminal building expansion, new parking lot and entrance road renovation, perimeter road environmental assessment, aircraft apron rehabilitation, aircraft apron expansion.

Use: Replace snow removal equipment blower, acquire airfield sweeper and land acquisition.

Impose Only: Replace snow removal equipment plow truck and aircraft deicing equipment.

Class or classes of air carriers which the public agency has requested to be required to collect PFCs: Air Taxi/Commercial Operators filing FAA Form 1800-31 be exempt from collecting PFC.

Any person may inspect the application in person at the FAA office listed above under FOR FURTHER INFORMATION CONTACT. In addition, any person may, upon request, inspect the application, notice and other documents germane to the application in person at the Pellston Regional Airport of Emmet County.

Issued in Des Plaines, Illinois on June 12, 2001.
Robert Benko,
Acting Manager, Planning and Programming Branch, Aircraft Division, Great Lakes Region.

[FR Doc. 01-15344 Filed 6-15-01; 8:45 am]

BILLING CODE 4910-13-M